DEPARTMENT OF TRANSPORTATION

Federal Aviation Administration

14 CFR Part 95

[Docket No. 31363; Amdt. No. 558]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, April 22, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95 Airspace, Navigation (air).

Issued in Washington, DC, on March 19, 2021.
Wade Terrell,
Aviation Safety Manager, Flight Procedures & Airspace Group, Flight Technologies and Procedures Division.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 558 Effective Date April 22, 2021]
From | To | MEA | MAA
§ 95.3000 Low Altitude RNAV Routes
§ 95.3208 RNAV Route T208 Is Amended To Delete
GATORS, FL VORTAC | CARRA, FL FIX | 2100 | 15000
CARRA, FL FIX | ORMOND BEACH, FL VORTAC | 2300 | 15000
Is Added To Read
WALEE, FL WP | MMKAY, FL WP | 2000 | 17500
MMKAY, FL WP | FOXAM, FL WP | 1800 | 17500
FOXAM, FL WP | SUUGR, FL WP | 1800 | 17500
SUUGR, FL WP | SMYRA, FL FIX | 1800 | 17500
SMYRA, FL FIX | OAKIE, FL FIX | 1800 | 17500
OAKIE, FL FIX | MALET, FL FIX | 1800 | 17500
MALET, FL FIX | TICCO, FL FIX | 1800 | 17500
TICCO, FL FIX | INDIA, FL FIX | 1800 | 17500
INDIA, FL FIX | DIMBY, FL WP | 1800 | 17500
DIMBY, FL WP | VALKA, FL FIX | 1800 | 17500
VALKA, FL FIX | SULTY, FL WP | 1700 | 17500
SULTY, FL WP | WIXED, FL WP | 1700 | 17500
WIXED, FL WP | CLEFF, FL WP | 1700 | 17500
CLEFF, FL WP | DURRY, FL WP | 1700 | 17500
DURRY, FL WP | BOBOE, FL WP | 1700 | 17500
BOBOE, FL WP | SHANC, FL FIX | 1700 | 17500
§ 95.3210 RNAV Route T210 Is Amended By Adding
MARQO, FL WP | OHLEE, FL WP | 1900 | 9000
BRADO, FL FIX | MMKAY, FL WP | 1800 | 17500
MMKAY, FL WP | MRUTT, FL WP | 1800 | 17500
MRUTT, FL WP | GUANO, FL FIX | 1800 | 17500
GUANO, FL FIX | KIZER, FL FIX | 1800 | 17500
KIZER, FL FIX | EMSEE, FL WP | 1800 | 17500
EMSEE, FL WP | DAIYL, FL WP | 1900 | 17500
DAIYL, FL WP | AKOJO, FL WP | 1800 | 17500
AKOJO, FL WP | PUNQU, FL WP | 2000 | 17500
PUNQU, FL WP | VARZE, FL WP | 1900 | 17500
Is Amended To Delete
TAYLOR, FL VORTAC | OHLEE, FL WP | 1900 | 9000
§ 95.3336 RNAV Route T336 Is Added To Read
TROYR, FL WP | OMMNI, FL WP | 2500 | 17500
OMMNI, FL WP | PUNQU, FL WP | 2000 | 17500
PUNQU, FL WP | YOJIX, FL FIX | 2200 | 17500
YOJIX, FL FIX | YONMA, FL FIX | 2200 | 17500
YONMA, FL FIX | ODDEL, FL FIX | 1800 | 17500
*2700—MCA ODDEL, FL FIX, E BND
ODDEL, FL FIX | DEARY, FL FIX | 2700 | 17500
DEARY, FL FIX | WIXED, FL WP | 1800 | 17500
§ 95.3337 RNAV Route T337 Is Added To Read
SWENY, FL WP | RISKS, FL WP | 2000 | 17500
RISKS, FL WP | WEZER, FL WP | 2000 | 17500
§ 95.3339 RNAV Route T339 Is Added To Read
KARTR, FL FIX | DEEDS, FL FIX | 1700 | 17500
DEEDS, FL FIX | SWAGS, FL FIX | 1700 | 17500
SWAGS, FL FIX | ZAGPO, FL WP | 1700 | 17500
ZAGPO, FL WP | DIDDY, FL FIX | 1700 | 17500
DIDDY, FL FIX | ODDEL, FL FIX | 2700 | 17500
§ 95.3341 RNAV Route T341 Is Added To Read
MEAGN, FL WP | ZAGPO, FL WP | 1700 | 17500
ZAGPO, FL WP | CUSEK, FL WP | 1700 | 17500
CUSEK, FL WP | WEZER, FL WP | 2000 | 17500
WEZER, FL WP | VARZE, FL WP | 2000 | 17500
VARZE, FL WP | MARQO, FL WP | 2100 | 12000
§ 95.3343 RNAV Route T343 Is Added To Read
WORPP, FL FIX | CUSEK, FL WP | 1800 | 17500
CUSEK, FL WP | FEBRO, FL WP | 1800 | 17500
FEBRO, FL WP | TAHRS, FL WP | 2000 | 17500
TAHRS, FL WP | YOJIX, FL FIX | 2000 | 17500
YOJIX, FL FIX | YONMA, FL FIX | 2200 | 17500
YONMA, FL FIX | ODDEL, FL FIX | 1800 | 17500
*2700—MCA ODDEL, FL FIX, E BND
ODDEL, FL FIX | DEARY, FL FIX | 2700 | 17500
DEARY, FL FIX | INDIA, FL FIX | 1800 | 17500
§ 95.3345 RNAV Route T345 Is Added To Read
MARKT, FL WP | AIRBT, FL WP | 1700 | 17500
AIRBT, FL WP | DOWDI, FL WP | 1700 | 17500
DOWDI, FL WP | LLNCH, FL FIX | 1800 | 17500
LLNCH, FL FIX | DEARY, FL FIX | 1800 | 17500
§ 95.3347 RNAV Route T347 Is Added To Read
CLEFF, FL WP | BAIRN, FL FIX | 1800 | 17500
BAIRN, FL FIX | SABOT, FL FIX | 1800 | 17500
SABOT, FL FIX | CROPY, FL FIX | 1800 | 17500
CROPY, FL FIX | KIZER, FL FIX | 1800 | 17500
KIZER, FL FIX | GUANO, FL FIX | 1800 | 17500
GUANO, FL FIX | MRUTT, FL WP | 1800 | 17500
MRUTT, FL WP | FOXAM, FL WP | 1800 | 17500
FOXAM, FL WP | SEBAG, FL FIX | 1700 | 17500
§ 95.3349 RNAV Route T349 Is Added To Read
VARZE, FL WP | TROYR, FL WP | 1900 | 17500
§ 95.3353 RNAV Route T353 Is Added To Read
FEBRO, FL WP | MOANS, FL FIX | 1900 | 17500
MOANS, FL FIX | PUNQU, FL WP | 1900 | 17500
PUNQU, FL WP | AKOJO, FL WP | 2000 | 17500
AKOJO, FL WP | DAIYL, FL WP | 1800 | 17500
DAIYL, FL WP | EMSEE, FL WP | 1900 | 17500
EMSEE, FL WP | KIZER, FL FIX | 1800 | 17500
KIZER, FL FIX | GUANO, FL FIX | 1800 | 17500
GUANO, FL FIX | MRUTT, FL WP | 1800 | 17500
MRUTT, FL WP | FOXAM, FL WP | 1800 | 17500
FOXAM, FL WP | ASTOR, FL FIX | 1700 | 17500

From | To | MEA
§ 95.6001 Victor Routes-U.S.
§ 95.6012 VOR Federal Airway V12 Is Amended To Delete
MITBEE, OK VORTAC | CARON, OK FIX
| SW BND | *5000
| NE BND | *8000
*3700—MOCA
CARON, OK FIX | ANTHONY, KS VORTAC
| NE BND | 3000
| SW BND | 5000
ANTHONY, KS VORTAC | WICHITA, KS VORTAC | 3600
§ 95.6024 VOR Federal Airway V24 Is Amended To Read In Part
REDWOOD FALLS, MN VOR/DME | *ALMAY, MN FIX | **3400
*5000—MRA
**2900—MOCA
ALMAY, MN FIX | KASPR, MN FIX | 3400
§ 95.6026 VOR Federal Airway V26 Is Amended To Read In Part
MUDDY MOUNTAIN, WY VOR/DME | SALON, WY FIX
| NE BND | 13000
| SW BND | 8000
SALON, WY FIX | RULER, SD FIX | *13000
*9500—MOCA
RULER, SD FIX | *RAPID CITY, SD VORTAC
| NE BND | 8300
| SW BND | 13000
*11300—MCA RAPID CITY, SD VORTAC, SW BND
§ 95.6074 VOR Federal Airway V74 Is Amended To Delete
DODGE CITY, KS VORTAC | *SAFER, KS WP | 4300
*4500—MRA
SAFER, KS WP | ANTHONY, KS VORTAC
| NW BND | 4300
| SE BND | 3600
ANTHONY, KS VORTAC | PIONEER, OK VORTAC | 3000
§ 95.6221 VOR Federal Airway V221 Is Amended To Read In Part
FORT WAYNE, IN VORTAC | *GAREN, IN FIX | 3000
*4500—MRA
GAREN, IN FIX | ILTON, IN FIX | *3000
*2400—MOCA
§ 95.6345 VOR Federal Airway V345 Is Amended To Read In Part
DELLS, WI VORTAC | *MILTO, WI FIX | **3500
*4700—MCA MILTO, WI FIX, NW BND
**2800—MOCA
MILTO, WI FIX | EAU CLAIRE, WI VORTAC | *4700
*3500—MOCA
*3500—GNSS MEA
§ 95.6398 VOR Federal Airway V398 Is Amended To Read In Part
REDWOOD FALLS, MN VOR/DME | *ALMAY, MN FIX | **3400
*5000—MRA
**2900—MOCA
ALMAY, MN FIX | KASPR, MN FIX | 3400
§ 95.6516 VOR FEDERAL AIRWAY V516 Is Amended To Delete
LIBERAL, KS VORTAC | ANTHONY, KS VORTAC | *6000
*4500—MOCA
ANTHONY, KS VORTAC | PIONEER, OK VORTAC | 3000
§ 95.6543 VOR Federal Airway V543 Is Amended To Read In Part
OYSTY, LA FIX | *RYTHM, LA FIX | 2000
*4200—MCA RYTHM, LA FIX, NE BND

[FR Doc. 2021-06161 Filed 3-25-21; 8:45 am]

BILLING CODE 4910-13-P